DEPARTMENT OF AGRICULTURE

Food Safety and Inspection Service

[Docket No. FSIS-2016-0029]

Codex Alimentarius Commission: Meeting of the Codex Committee on Food Hygiene

AGENCY: Office of the Deputy Under Secretary for Food Safety, USDA.

ACTION: Notice of public meeting and request for comments.

SUMMARY: The Office of the Deputy Under Secretary for Food Safety, U.S. Department of Agriculture (USDA), and the Food and Drug Administration (FDA), U.S. Department of Health and Human Services (HHS), are sponsoring a public meeting on October 11, 2016. The objective of the public meeting is to provide information and receive public comments on agenda items and draft United States (U.S.) positions to be discussed at the 48th Session of the Codex Committee on Food Hygiene (CCFH) of the Codex Alimentarius Commission (Codex), taking place in Los Angeles, CA, November 7-11, 2016. The Deputy Under Secretary for Food Safety and the FDA recognize the importance of providing interested parties the opportunity to obtain background information on the 48th Session of the CCFH and to address items on the agenda.

DATES: The public meeting is scheduled for Tuesday, October 11, 2016, from 1:00 p.m.-4:00 p.m.

ADDRESSES: The public meeting will take place at the USDA, Jamie L. Whitten Building, 1400 Independence Avenue SW., Room 107-A, Washington, DC 20250.

Documents related to the 48th Session of the CCFH will be accessible via the Internet at the following address: http://www.codexalimentarius.org/meetings-reports/en/.

Jenny Scott, U.S. Delegate to the 48th Session of the CCFH, invites U.S. interested parties to submit their comments electronically to the following email address Jenny.Scott@fda.hhs.gov.

Call-in-Number: If you wish to participate in the public meeting for the 48th Session of the CCFH by conference call, please use the call-in-number listed.

Call-in-Number: 1-888-844-9904

The participant code will be posted on the following Web page: http://www.fsis.usda.gov/wps/portal/fsis/topics/international-affairs/us-codex-alimentarius/public-meetings.

Registration: Attendees may register to attend the public meeting by emailing barbara.mcniff@fsis.usda.gov by October 5, 2016. Early registration is encouraged as it will expedite entry into the building. The meeting will take place in a Federal building. Attendees should bring photo identification and plan for adequate time to pass through security screening systems. Attendees that are not able to attend the meeting in person, but wish to participate may do so by phone.

FOR FURTHER INFORMATION ABOUT THE 48th SESSION OF THE CCFH CONTACT: Jenny Scott, Senior Advisor, Office of Food Safety, Center for Food Safety and Applied Nutrition, U.S. Food and Drug Administration, 5100 Paint Branch Parkway, HFS-300, Room 3B-014, College Park, MD 20740-3835, Telephone: (240) 402-2166, Fax: (202) 436-2632, Email: Jenny.Scott@fda.hhs.gov.

FOR FURTHER INFORMATION ABOUT THE PUBLIC MEETING CONTACT: Barbara McNiff, U.S. Codex Office, 1400 Independence Avenue SW., Room 4861, Washington, DC 20250, Telephone: (202) 690-4719, Fax: (202) 720-3157, Email: Barbara.McNiff@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, the Codex seeks to protect the health of consumers and ensure fair practices are used in the food trade.

The CCFH is responsible for:

(a) Drafting basic provisions on food hygiene applicable to all food;

(b) Considering, amending if necessary, and endorsing provisions on hygiene prepared by Codex commodity committees and contained in Codex commodity standards;

(c) Considering, amending if necessary, and endorsing provisions on hygiene prepared by Codex commodity committees and contained in Codex codes of practice unless, in specific cases, the Commission has decided otherwise;

(d) Drafting provisions on hygiene applicable to specific food items or food groups, whether coming within the terms of reference of a Codex commodity committee or not;

(e) Considering specific hygiene problems assigned to it by the Commission;

(f) Suggesting and prioritizing topics on which there is a need for microbiological risk assessment at the international level and developing questions to be addressed by the risk assessors; and

(g) Considering microbiological risk management matters in relation to food hygiene, including food irradiation, and in relation to the risk assessment of FAO and WHO.

The CCFH is hosted by the United States.

Issues To Be Discussed at the Public Meeting

The following items on the Agenda for the 48th Session of the CCFH will be discussed during the public meeting:

• Matters referred by Codex or other Codex Subsidiary Bodies to the Food Hygiene Committee.

• Matters arising from the work of the FAO, WHO, and Other International Intergovernmental Organizations:

(a) Progress report on the Joint FAO/WHO expert meeting on Microbiological Risk Assessment and Related Matters.

(b) Information from the World Organization for Animal Health (OIE).

• Proposed draft revision of the General Principles of Food Hygiene and its HACCP Annex at Step 4.

• Proposed draft revision of the Code of Hygienic Practice for Fresh Fruits and Vegetables at Step 4.

• Proposed draft Guidance on the Histamine control and sampling plans for histamine at Step 4.

• Proposal to merge all guidance for control of foodborne parasites: Guideline on the Application of General Principles of Food Hygiene to the Control of Food Parasites.

• Other business and future.

(a) New Work/Forward Work Plan.

Each issue listed will be fully described in documents distributed, or to be distributed, by the Secretariat before the meeting. Members of the public may access or request copies of these documents (see ADDRESSES).

Public Meeting

At the October 11, 2016, public meeting, draft U.S. positions on the agenda items will be described and discussed, and attendees will have the opportunity to pose questions and offer comments. Written comments may be offered at the meeting or sent to the U.S. Delegate for the 48th Session of the CCFH, Jenny Scott (see ADDRESSES). Written comments should state that they relate to the activities of the 48th Session of the CCFH.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410

Fax: (202) 690-7442

Email: program.intake@usda.gov

Persons with disabilities who require alternative means for communication (Braille, large print, audiotape, etc.) should contact USDA's TARGET Center at (202) 720-2600 (voice and TDD).

Done at Washington, DC, on September 7, 2016.
Paulo Ameida,
Acting U.S. Manager for Codex Alimentarius.

[FR Doc. 2016-21890 Filed 9-9-16; 8:45 am]

BILLING CODE 3410-DM-P